DEPARTMENT OF ENERGY

Federal Energy Regulatory Commission

[Docket No. EL16-60-000]

Vineland Municipal Electric Utility v. Atlantic City Electric Company; Notice of Complaint

Take notice that on April 26, 2016, pursuant to sections 205, 206, 306, and 309 of the Federal Power Act (FPA) ¹ and Rules 206 and 217 of the Federal Energy Regulatory Commission's (Commission) Rules of Practice and Procedure,² Vineland Municipal Electric Utility (Vineland or Complainant) filed a formal complaint against Atlantic City Electric Company (ACE or Respondent). Vineland is seeking an order granting full and immediate refunds of all amounts paid in violation of the Interconnection Agreement and PJM Open Access Transmission Tariff (PJM OATT). Vineland is alleging ACE's decision to, without prior notice or approval from Vineland, apply a Reconciliation Factor to Vineland's five coincident hourly metered loads for the purpose of calculating Vineland's capacity obligation, is in violation of the Interconnection Agreement and the PJM OATT, as more fully explained in the complaint.

¹ 16 U.S.C. 824d, 824e, 825e, and 825h (2016).

² 18 CFR 385.206, 385.217 (2016).

Complainant certifies that copies of the Complaint were served on the contacts for the Respondents.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 16, 2016.

Dated: April 28, 2016.
Kimberly D. Bose,
Secretary.

[FR Doc. 2016-10906 Filed 5-9-16; 8:45 am]

BILLING CODE 6717-01-P